GENERAL SERVICES ADMINISTRATION

41 CFR Chapter 301

[FTR Amendment 87]

RIN 3090-AH18

Federal Travel Regulation; Maximum Per Diem Rates and Other Travel Allowances; Correction

AGENCY: Office of Governmentwide Policy, GSA.

ACTION: Final rule; correction.

SUMMARY: This document corrects entries listed in the prescribed maximum per diem rates for locations within the continental United States (CONUS) contained in a final rule appearing in part III of the Federal Register of Thursday, December 2, 1999 (64 FR 67670). The rule, among other things, increased/decreased the maximum lodging amounts in certain existing per diem localities, added new per diem localities, and removed a number of previously designated per diem localities. A correction published on Friday, May 19, 2000 (65 FR 31823), corrected the seasonal dates and lodging rates for Aspen, Colorado but failed to show changes this caused in the amounts of the maximum per diem rates.

EFFECTIVE DATE: January 1, 2000.

FOR FURTHER INFORMATION CONTACT: Joddy P. Garner, Office of Governmentwide Policy (MTT), Washington, DC 20405; telephone 202-501-4857.

SUPPLEMENTARY INFORMATION: In rule document 00-12340 beginning on page 31823 in the issue of Friday, May 19, 2000 make the following corrections:

Appendix A to Chapter 301 [Corrected]

On page 31825, under the State of Colorado, city of Aspen, the maximum per diem rates in column five are corrected as follows:

1. For the entry “April 1-May 31,” correct “186” to read “114”.

2. For the entry “June 1-December 31,” correct “114” to read “186”.

Page 31825, as corrected, reads as follows:

Appendix A to Chapter 301—Prescribed Maximum Per Diem Rates for CONUS

* * * * *

BILLING CODE 6820-34-P

Dated: June 7, 2000.
James L. Harte,
Travel Team Leader, Travel Management Policy Division.

[FR Doc. 00-14796 Filed 6-12-00; 8:45 am]

BILLING CODE 6820-34-C